COMMODITY FUTURES TRADING COMMISSION

Sunshine Act Meetings

TIME AND DATE: 9:30 a.m. EST, Monday, November 2, 2020.

PLACE: Virtual meeting.

STATUS: Open.

MATTERS TO BE CONSIDERED: The Commodity Futures Trading Commission (“Commission” or “CFTC”) will hold this meeting to consider the following matter:

• Final Rule: Amendments to Part 50 Clearing Requirement Exemptions for Central Banks, Sovereigns, IFIs, Bank Holding Companies, and CDFIs.

The agenda for this meeting will be available to the public and posted on the Commission's website at https://www.cftc.gov. Instructions for public access to the live feed of the meeting will also be posted on the Commission's website. In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: October 26, 2020.
Christopher Kirkpatrick,
Secretary of the Commission.

[FR Doc. 2020-24039 Filed 10-27-20; 11:15 am]

BILLING CODE 6351-01-P